NATIONAL AERONAUTICS AND SPACE ADMINISTRATION

[Notice: (14-021)]

NASA Asteroid Initiative Opportunities Forum

AGENCY: National Aeronautics and Space Administration.

ACTION: Notice of public forum.

SUMMARY: The National Aeronautics and Space Administration announces a public forum to provide a status on the agency's asteroid initiative planning, including ongoing studies and opportunities for engagement following the request for information last summer. NASA experts will provide an overview of an Asteroid Initiative Announcement of Opportunities (scheduled to release on or before the date of the forum) and announce new engagement opportunities related to the Asteroid Grand Challenge.

DATES: Wednesday, March 26, 2014, 12:30-4:30 p.m. EDT.

Location: James E. Webb Auditorium.

ADDRESSES: NASA Headquarters, 300 E Street SW., Washington, DC 20546.

FOR FURTHER INFORMATION CONTACT: Chris Moore, 202.358.4650.

SUPPLEMENTARY INFORMATION: • This forum will be open to the public up to the seating capacity of the room.

• This meeting will be streamed live online. Viewing options will be posted at www.nasa.gov/asteroidinitiative prior to the event.

• The agenda for this meeting includes the following topics:

○ Update on Asteroid Redirect Mission studies

○ Technology needs related to the Asteroid Redirect Mission

○ Mission capabilities extension to commercial applications and human-class Mars missions

○ Broad Agency Announcement for alternate capture systems concepts, rendezvous sensor systems, secondary payloads, and commercial and international partnership opportunities

○ Asteroid Grand Challenge engagement opportunities

Registration

Individuals who plan to attend the Asteroid Initiative Opportunities Forum in person must register online. Due to capacity limitations, a maximum of 150 registrations will be accepted. Those who intend to watch the live web stream are also encouraged to register as a virtual participant. Registration will open on Monday, February 24th. Details will be posted at www.nasa.gov/asteroidinitiative.

Check In

Any individuals who have registered to attend the Asteroid Initiative Opportunities Forum should enter the west lobby doors of the NASA Headquarters building at 300 E Street, SW., Washington, DC. Upon arrival, all participants will be required to check in at the registration table located in the lobby and show photo identification.

Security

Event attendees will not be required to check in at the security desk to obtain a visitor's badge. However, participants will be subject to personal inspection (e.g., passing through a metal detector), prior to entering the auditorium.

Press

News media interested in attending are required to pre-register and should contact Sarah Becky Ramsey at 202-358-1694 for additional information.

Directions

Directions to NASA Headquarters are available online at the following URL: http://www.nasa.gov/centers/hq/about/map.html.

Driving

Parking lots are located near the NASA Headquarters building. Check the local yellow pages or Internet for exact locations.

Metro

Metro stops nearest NASA Headquarters are L'Enfant Plaza (orange, blue, yellow, and green lines) and Federal Center SW. (orange and blue lines).

From L'Enfant Plaza station, take the Department of Transportation exit and turn left at the top of the escalators. Head east (on School St. or E St. SW.) and south (on 4th or 6th St. SW.) to arrive at the west entrance of the NASA building near the corner of E St. SW. and 4th St. SW.

From the exit of the Federal Center SW. metro station, head south on 3rd St. SW. and then west on E St. SW. to arrive at the west entrance of the NASA building near the corner of E St. SW. and 4th St. SW.

William Gerstenmaier,
Associate Administrator, Human Exploration & Operations Mission Directorate.

[FR Doc. 2014-03657 Filed 2-20-14; 8:45 am]

BILLING CODE 7510-13-P